DEPARTMENT OF AGRICULTURE

Animal and Plant Health Inspection Service

[Docket No. APHIS-2009-0088]

Notice of Availability of an Evaluation of the Highly Pathogenic Avian Influenza Status of Czech Republic and Sweden

AGENCY: Animal and Plant Health Inspection Service, USDA.

ACTION: Notice of availability and request for comments.

SUMMARY: We are advising the public that the Animal and Plant Health Inspection Service has prepared an evaluation of the animal health status of the Czech Republic and Sweden relative to the H5N1 subtype of highly pathogenic avian influenza (HPAI). The evaluation presents our assessment of the HPAI H5N1 detection, control, and eradication measures in place in the Czech Republic and Sweden following the outbreaks of HPAI in Sweden during 2006, and in the Czech Republic during 2007, as well as our assessment of the present status of the Czech Republic and Sweden with respect to HPAI H5N1. We are making this evaluation available to the public for review and comment. If, after the close of the comment period, we can identify no additional risk factors that would indicate that domestic poultry in the Czech Republic and Sweden continue to be affected with HPAI H5N1, we will remove those regions from our list of regions affected with HPAI H5N1.

DATES: We will consider all comments that we receive on or before May 6, 2010.

ADDRESSES: You may submit comments by either of the following methods:

• Federal eRulemaking Portal: Go to (http://www.regulations.gov/fdmspublic/component/main?main=DocketDetail&d=APHIS-2009-0088) to submit or view comments and to view supporting and related materials available electronically.

• Postal Mail/Commercial Delivery: Please send two copies of your comment to Docket No. APHIS-2009-0088, Regulatory Analysis and Development, PPD, APHIS, Station 3A-03.8, 4700 River Road Unit 118, Riverdale, MD 20737-1238. Please state that your comment refers to Docket No. APHIS-2009-0088.

Reading Room: You may read any comments that we receive on the evaluations in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: Dr. Julia Punderson, Senior Staff Veterinarian, Regionalization Evaluation Services-Import, National Center for Import and Export, VS, APHIS, 4700 River Road Unit 38, Riverdale, MD 20737-1231; (301) 734-4356.

SUPPLEMENTARY INFORMATION:

Background

Under the Animal Health Protection Act (7 U.S.C. 8301 et seq.), the Animal and Plant Health Inspection Service (APHIS) has the authority to prohibit or restrict the importation into the United States of animals, animal products, and other articles in order to prevent the introduction of diseases and pests into the U.S. livestock and poultry populations.

Highly pathogenic avian influenza (HPAI) is a zoonotic disease of poultry. The H5N1 subtype of HPAI is an extremely infectious and fatal form of the disease. HPAI can strike poultry quickly without any warning signs of infection and, once established, can spread rapidly from flock to flock. HPAI viruses can also be spread by manure, equipment, vehicles, egg flats, crates, and people whose clothing or shoes have come in contact with the virus. HPAI viruses can remain viable at moderate temperatures for long periods in the environment and can survive indefinitely in frozen material. The H5N1 subtype of HPAI has been of particular concern because it has crossed the species barrier and caused disease in humans.

On March 17, 2006, the Swedish Board of Agriculture reported their first case of HPAI H5N1 in domestic poultry to the World Organization of Animal Health (OIE). The outbreak was confirmed in mallard ducks on a game bird breeding farm in the village of Gässhult, Oskarshamn, in Kalmar County, located in an area which had already been under restriction since February 2006 due to the detection of HPAI H5N1 in wild birds. No further reports of the HPAI H5N1 in wild or domestic birds have been reported in Sweden since that time.

On June 22, 2007, the Director of the Department of Animal Health and Welfare in Ministry of Agriculture of the Czech Republic reported the first occurrence of HPAI H5N1 in domestic poultry to the OIE. The outbreak was confirmed in a flock of 6,000 turkeys near Tisova, Usti nad Orlici district, in the Pardubicky Region and then spread to other neighboring commercial poultry farms over the following weeks.

To prevent the introduction of HPAI H5N1 into the United States, APHIS added the regions of the Czech Republic and Sweden where the outbreaks occurred to the list of regions that APHIS considers to be affected with HPAI H5N1.¹ This action resulted in restrictions on the importation of bird, poultry, and birds and poultry products into the United States from those two regions.

¹ To view the list of regions APHIS considers to be affected with HPAI H5N1, go to (http://www.aphis.usda.gov/import_export/animals/animal_import/animal_imports_hpai.shtml).

We have evaluated the status of HPAI H5N1 in domestic and wild poultry in the Czech Republic and Sweden in light of the actions taken by the Czech and Swedish authorities since the outbreaks. We present the results of our evaluation in a document titled “APHIS’ Evaluation of the Status of High Pathogenicity Avian Influenza H5N1 (HPAI H5N1) in the Czech Republic and Sweden” (July 2009), and document our analysis of the risk associated with allowing the importation of birds, poultry, and poultry products from regions of the Czech Republic and Sweden into the United States in the aftermath of the outbreaks.

We based our evaluation of the Czech Republic’s and Sweden’s HPAI H5N1 status on the following critical factors:

• Each region had been free of outbreaks of the H5N1 subtype in its domestic poultry for at least 3 months as a result of effective control measures taken by a competent veterinary infrastructure;

• HPAI H5N1 was a notifiable disease in each region at the time of the outbreak;

• Each region had an ongoing disease awareness program in place at the time of the outbreak;

• Each region investigated, all notified, and/or suspected occurrences of the disease;

• Each region had an effective surveillance program in place that supported the detection and investigation of outbreaks;

• Diagnostic and laboratory capabilities within each region were both adequate and effective;

• Each region undertook appropriate eradication and control measures and movement restrictions in response to the outbreaks to prevent further spread of disease; and

• In each region, procedures used for repopulation of affected premises included monitoring to demonstrate that HPAI H5N1 had been eradicated from the premises.

Based on these factors, which are consistent with the OIE’s recommendations for reinstatement for trade with a country that has experienced an HPAI H5N1 outbreak,² our evaluations concluded that the Czech Republic and Sweden were able to effectively control and eradicate HPAI H5N1 in their respective poultry populations and that the Czech and Swedish authorities have adequate control measures in place to rapidly identify, control, and eradicate the disease should it be reintroduced into their respective countries in either wild birds or domestic poultry. We further concluded that the importation of live birds, poultry carcasses, parts of carcasses, and eggs (other than hatching eggs) of poultry, game birds, or other birds from regions of the Czech Republic and Sweden presents a low risk of introducing HPAI H5N1 into the United States.

² OIE (2008). Risk Analysis. In, Terrestrial Animal Health Code, 17th edition. Paris, World Organization for Animal Health: Chapter 2.2 on Import Risk Analysis; Chapter 10.4 on Avian Influenza. To view the document on the Internet, go to (http://www.oie.int/eng/normes/mcode/A_summry.htm?e1d11).

We are making the evaluation available for public comment. We will consider all comments that we receive on or before the date listed under the heading DATES at the beginning of this notice.

If, after the close of the comment period, APHIS can identify no additional risk factors that would indicate that domestic poultry in regions of the Czech Republic or Sweden continue to be affected with HPAI H5N1, we will remove from the list of regions affected by HPAI H5N1 those regions of the Czech Republic and Sweden that are currently on the list.

The evaluation may be viewed on the Regulations.gov Web site or in our reading room (see ADDRESSES above for a link to Regulations.gov and information on the location and hours of the reading room). You may request paper copies of the evaluation by calling or writing to the person listed under FOR FURTHER INFORMATION CONTACT. Please refer to the title of the evaluation when requesting copies.

Done in Washington, DC, this 31st day of March 2010.

Gregory Parham
Acting Administrator, Animal and Plant Health Inspection Service.

[FR Doc. 2010-7734 Filed 4-5-10; 12:01 pm]

BILLING CODE 3410-34-S